DEPARTMENT OF COMMERCE

National Oceanic and Atmospheric Administration

[RTID 0648-XD166]

Fisheries of the South Atlantic; South Atlantic Fishery Management Council; Public Meetings

AGENCY: National Marine Fisheries Service (NMFS), National Oceanic and Atmospheric Administration (NOAA), Commerce.

ACTION: Notice of seminar series presentation via webinar.

SUMMARY: The South Atlantic Fishery Management Council (Council) will host a presentation on the status of on-demand gear for the U.S. South Atlantic Black Sea Bass pot fishery via webinar August 8, 2023.

DATES: The webinar presentation will be held on Tuesday, August 8, 2023, from 1 p.m. until 2:30 p.m.

ADDRESSES: The presentation will be provided via webinar. The webinar is open to members of the public. Information, including a link to webinar registration will be posted on the Council's website at: https://safmc.net/safmc-seminar-series/ as it becomes available.

Council address: South Atlantic Fishery Management Council, 4055 Faber Place Drive, Suite 201, N Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The Council will host a presentation from the National Marine Fisheries Service on the value and benefits of on-demand fishing gear for the U.S. South Atlantic Black Sea Bass pot fishery and North Atlantic Right Whales. The presentation will discuss the history of the current area closure for pot fishing during North Atlantic Right Whales calving season to reduce entanglement risk. Since 2020, experimental on-demand gear has been authorized and trialled by commercial fishermen in the black sea bass pot fishery. The researchers will discuss the potential benefits of the new gear for fishermen and discuss how the new gear presents minimal entanglement risk to endangered North Atlantic Right Whales. A question-and-answer session will follow the presentation. Members of the public will have the opportunity to participate in the discussion. The presentation is for informational purposes only and no management actions will be taken.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: July 17, 2023.
Rey Israel Marquez,
Acting Deputy Director, Office of Sustainable Fisheries, National Marine Fisheries Service.

[FR Doc. 2023-15447 Filed 7-20-23; 8:45 am]

BILLING CODE 3510-22-P